DEPARTMENT OF AGRICULTURE

Food Safety and Inspection Service

9 CFR Part 320 and 381

[Docket No. 01-034E]

Need To Complete New Registration Form

AGENCY: Food Safety and Inspection Service, USDA.

ACTION: Extension of date by which businesses required to register with FSIS must do so.

SUMMARY: The Food Safety and Inspection Service (FSIS) is announcing that all parties required to register with the Agency, including those that are currently registered, have until May 24, 2004, to file the new registration form that the Agency has developed. On June 25, 2003, FSIS announced that it had developed the new registration form, and that all businesses required to register with FSIS were to submit the form by March 22, 2004. FSIS is extending the deadline for submitting the new registration form because it was not available at the time FSIS projected that it would be available. This document addresses issues that have arisen concerning the registration requirement.

DATES: All parties required to register with FSIS, including those currently registered, must complete the new registration form and submit it to FSIS by May 24, 2004.

ADDRESSES: The new registration form (FSIS Form 5020-1) is available over the Internet at http://www.fsis.usda.gov/fsisforms. To obtain a copy of the registration form, parties may also write to USDA, FSIS, Program Evaluation, Enforcement and Review (PEER), Evaluation and Enforcement Division (EED), 300 West End Court Building, 1255 22nd Street, NW., Room 300, Washington, DC 20250-3700.

FOR FURTHER INFORMATION CONTACT: Dr. Arshad Hussain, Division Director, Data Analysis and Statistical Support Staff, Food Safety and Inspection Service, U.S. Department of Agriculture (202) 720-3219.

SUPPLEMENTARY INFORMATION: On June 25, 2003, FSIS published a document that announced the need for certain businesses to complete a new registration form that the Agency had developed, and that explained the importance of compliance with recordkeeping and registration requirements in the Federal meat and poultry products inspection regulations (68 FR 37730).

As explained in that document, the Federal Meat Inspection Act (FMIA) and Poultry Products Inspection Act (PPIA) prohibit any person, firm, or corporation from engaging in commerce as a meat or poultry products broker, renderer, animal food manufacturer, wholesaler of any carcasses, or parts or products of the carcasses of livestock (that is, cattle, sheep, swine, goats, horses, mules, or other equines) or poultry, or public warehouseman storing any such articles in or for commerce, or from buying, selling, or transporting, or importing any dead, dying, disabled or diseased livestock or poultry or parts of the carcasses of livestock or poultry that died otherwise than by slaughter, unless they have registered their business as required by the regulations, 9 CFR 320.5 and 381.179 (see section 203 of the FMIA (21 U.S.C. 643) and section 11(c) of the PPIA (21 U.S.C. 460(c)). Sections 320.5(c) and 381.179(c) of 9 CFR provide that the registration requirements do not apply to persons that conduct any of the businesses listed above only at an official establishment. Therefore, official establishments are not required to register with FSIS.

Following publication of the June 25, 2003, document, a retail association contacted FSIS and asked whether retailers are required to register with FSIS, and whether warehouses and distribution centers owned by retail stores are required to register with FSIS. The Agency advises that retail stores that sell meat or poultry products to household consumers only are not required to register with FSIS. However, if they sell meat or poultry products to hotels, restaurants, institutions, or other retailers, they are wholesalers of such products and thus are subject to the registration requirement.

With regard to warehouses and to distribution centers that store product and thus function as warehouses, the statutes and regulations require that public warehouses register with FSIS but do not require that private warehouses register. Whether a warehouse is considered public or private turns on several factors. If a warehouse is owned by a retail store and stores only meat and poultry products that are the property of that retail store, the warehouse is a private warehouse and is not required to register with FSIS. However, if the warehouse stores any meat or poultry products that are not owned by the retail store that owns the warehouse, that warehouse would be considered a public warehouse and would be required to register with FSIS. For example, if a retail store has consigned meat or poultry products to a hotel, restaurant, institution, or other retailer, and the product is stored in the warehouse owned by the retail store, the warehouse is functioning as a public warehouse, because the retail store no longer owns the products, and would be required to register.

As explained in the June 25, 2003, document, registration information, along with business records, is critical in any FSIS investigation related to public health, food safety, or misbranding of meat or poultry products (68 FR 37730). Registration information and business records are crucial in tracing sources of foodborne disease associated with consumption of meat or poultry products and in tracing the sources of contamination of meat or poultry products. Registration information and business records are also crucial in preventing the spread of disease associated with the consumption of meat or poultry products.

According to §§ 320.5(a) and 381.179(a) of the regulations, parties required to register with FSIS must do so by filing a form with the Agency. These regulations require parties to register within 90 days after they begin to engage in any of the businesses that require them to register. Sections 320.5(b) and 381.179(b) of the regulations require that, whenever any change is made in the registrant's name, business address, or any trade or business name under which it conducts its business, the registrant must report such change in writing to the Administrator within 15 days after making the change.

As explained in the June 25, 2003, document, FSIS has developed a new registration form. Because the form asks for certain information that was not included on the previous form, including an e-mail address, phone number, and subsidiaries’ hours of operation, all parties required to register, including those that are currently registered, need to complete the new form and submit it to FSIS. Parties must submit the form to FSIS by May 24, 2004.

FSIS previously announced that parties were required to submit the form by March 22, 2004. FSIS is extending the deadline for submitting the new registration form to FSIS because the form did not become available when FSIS projected it would. The Office of Management and Budget (OMB) reviewed information collection associated with the registration form in accordance with the Paperwork Reduction Act. On February 20, 2004, the Office of Management and Budget (OMB) approved information collection associated with the new registration form (OMB control No. 0583-0218).

The registration form (FSIS Form 5020-1) can be obtained over the Internet at http://www.fsis.usda.gov/fsisforms.

To obtain the form, parties can also write to USDA, FSIS, Program Evaluation, Enforcement and Review (PEER), Evaluation and Enforcement Division (EED), 300 West End Court Building, 1255 22nd Street, NW., Room 300, Washington, DC 20250-3700. The form will also be available from FSIS personnel that visit businesses required to register. Once parties complete the form, they should mail it to USDA, FSIS, Program Evaluation, Enforcement and Review (PEER), Evaluation and Enforcement Division (EED), 300 West End Court Building, 1255 22nd Street, NW., Room 300, Washington, DC 20250-3700 (the same address as for obtaining forms) or fax it to Director, Evaluation and Enforcement Division (EED) at (202) 418-8941.

FSIS intends to issue instructions to FSIS personnel concerning the registration requirement.

Comments

FSIS received two comments in response to the June 25, 2003, document on recordkeeping and registration, one from a consumer organization and one from the government of a foreign country that is eligible to export to the United States (U.S.) product from livestock covered by the FMIA.

The consumer group stated that FSIS should require additional registration information, such as the specific types of animals slaughtered and animal products processed, transported, or handled; whether the registrant operates on a seasonal basis, and if so, the hours of operation; whether the types of animals slaughtered, processed or transported change depending on the season; and the name and telephone number of a contact person in the event of an emergency, particularly during non-working hours. This commenter also recommended that FSIS re-examine the existing regulatory recordkeeping requirements to assure that the type and form of the records required to be kept would be sufficient for FSIS to conduct both a trace back and a trace forward in the event of a food emergency. Finally, the commenter recommended that FSIS work with the Animal and Plant Health Inspection Service (APHIS) to assure that the strongest possible cattle identification system is in place so that animals can be traced back to their source as quickly as possible.

FSIS believes that existing registration and recordkeeping requirements are adequate to conduct both a trace back and a trace forward in the event of a food emergency. With regard to a cattle identification system, on December 30, 2003, Agriculture Secretary Veneman announced that USDA will begin implementation of a verifiable system of national animal identification.

The consumer organization also recommended additional measures, other than those concerning registration and recordkeeping, that FSIS should take to assure that the public is protected if Bovine Spongiform Encephalopathy (BSE) is ever discovered in the U.S. The commenter stated that the additional measures could include designation of certain tissues from all downer cattle and cattle over 24 months as Specified Risk Material (SRM) and banning vertebral columns and other potentially infectious tissues in advanced meat recovery (AMR) systems.

On January 12, 2004, FSIS published three interim final rules in response to the discovery of a BSE-positive cow in this country. These rules include provisions that are consistent with the consumer organization's comments (69 FR 1862, 1874, and 1885).

The government of the foreign country wanted assurances that registration and recordkeeping measures applied to products exported to the United States are not more trade restrictive than necessary to meet objectives; are based on sound risk assessments that address real risks; focus on outcomes rather than prescribing specific measures to achieve them; allow for the application of equivalence in achieving objectives; and avoid arbitrary or unjustifiable differences in the level of protection applied in different situations. That government also wanted assurances that the increased enforcement of registration and recordkeeping requirements and changes to current registration data will meet the U.S Sanitary and Phytosanitary Measures agreement and the U.S. Technical Barriers to Trade agreement. In addition, the government asked for clarification on the timing of FSIS’s increased enforcement of registration and recordkeeping requirements and asked whether this increased enforcement by FSIS would cause time delays and potential increases in costs at port of entry for exporters who endeavor to comply with registration requirements.

The government also wanted assurance that that country's export establishments would be allowed to maintain rendering facilities associated with their slaughtering premises and asked specific questions concerning the registration of the country's rendering facilities. The government also asked whether transport companies and other handlers of dead, dying, diseased, or disabled stock, other than the final handler (or exporter) of the product need to comply with FSIS registration and recordkeeping requirements.

Even though FSIS has developed a new registration form that requires that parties provide certain information that was not required on the previous form, FSIS did not impose any substantive new registration requirements or any new recordkeeping requirements in the June 25, 2003, document. The requirement that U.S. companies submit the new registration form will not result in a trade barrier.

For companies in foreign countries to be eligible to export to the U.S. product from livestock covered by the FMIA, the foreign country must have requirements equivalent to those in the Federal Meat Inspection Act and the Federal meat inspection regulations that apply to establishments preparing product for export to the U.S. (§ 327.2). Therefore, the government that commented should have existing registration and recordkeeping requirements that are equivalent to those in the FMIA and Federal meat inspection regulations with which businesses in that country must comply. The June 25, 2003, statement did not affect the equivalency requirements in § 327.2 or the meat inspection requirements of the foreign country.

Additional Public Notification

Public awareness of all segments of rulemaking and policy development is important. Consequently, in an effort to better ensure that the public and in particular that minorities, women, and persons with disabilities are aware of this notice, FSIS will announce it on-line through the FSIS Web page located at http://www.fsis.usda.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update is also available on the FSIS Web page. Through Listserv and the web page, FSIS is able to provide information to a much broader, more diverse audience.

Done in Washington, DC, on April 15, 2004.
Linda M. Swacina,
Deputy Administrator.

[FR Doc. 04-8948 Filed 4-15-04; 4:15 pm]

BILLING CODE 3410-DM-P